ENVIRONMENTAL PROTECTION AGENCY

[IN-162-1; FRL-7930-8]

Adequacy Status of Evansville, Indiana, 8-Hour Ozone Redesignation and Maintenance Plan for Transportation Conformity Purposes

AGENCY: Environmental Protection Agency (EPA).

ACTION: Notice of adequacy.

SUMMARY: In this notice, EPA is notifying the public that EPA has found that the motor vehicle emissions budgets in the Evansville, Indiana 8-hour ozone redesignation request and maintenance plan are adequate for conformity purposes. On March 2, 1999, the D.C. Circuit Court ruled that submitted State Implementation Plans (SIPs) cannot be used for conformity determinations until EPA has affirmatively found them adequate. As a result of our finding, the Evansville, Indiana area (which consists of Warrick and Vanderburgh Counties) can use the motor vehicle emissions budgets from the submitted 8-hour ozone redesignation request and maintenance plan for future conformity determinations. These budgets are effective July 15, 2005. The finding and the response to comments will be available at EPA's conformity Web site: http://www.epa.gov/otaq/transp.htm, (once there, click on the “Conformity” button, then look for “Adequacy Review of SIP Submissions for Conformity”).

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we”, “us” or “our” is used, we mean EPA.

Background

Today's notice is simply an announcement of a finding that we have already made. EPA Region 5 sent a letter to the Indiana Department of Environmental Management on June 7, 2005, stating that the motor vehicle emissions budgets for the year 2015, submitted for the Evansville, Indiana 8-hour ozone redesignation request and maintenance plan, are adequate. This finding has been announced on EPA's conformity Web site: http://www.epa.gov/otaq/transp.htm, (once there, click on the “Conformity” button, then look for “Adequacy Review of SIP Submissions for Conformity”).

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in guidance (May 14, 1999 memo titled “Conformity Guidance on Implementation of March 2, 1999 Conformity Court Decision”). We followed this guidance in making our adequacy determination.

Dated: June 16, 2005.
Margaret Guerriero,
Acting Regional Administrator, Region 5.

[FR Doc. 05-12939 Filed 6-29-05; 8:45 am]

BILLING CODE 6560-50-P